DEPARTMENT OF TRANSPORTATION

Maritime Administration

Marine Highway Project Designation Open Season General Information Announcement

AGENCY: Maritime Administration, DOT.

ACTION: Notice of open season for Marine Highway Project Designations.

SUMMARY: The U.S. Department of Transportation (DOT) and Maritime Administration (MARAD) announce that the open season for Marine Highway Project Designation submissions is being extended to January 31, 2022 (Open Season). The purpose of this notice is to extend the invitation to interested parties to submit Marine Highway Project Designation applications to DOT for review and consideration.

DATES: There will be six additional project review sessions during the extended Marine Highway Project Designation Open Season. Table 1 contains the application due dates and review periods for each review session. Qualified projects will be announced shortly after the completion of each review session. Applications can also be submitted at any time.

Table 1—Open Season Project Designation Submission and Review Timeline
Review session | Project application due date (11:59 p.m. Pacific) | Project review period
1 | July 31, 2019 | August 1, 2019-November 30, 2019.
2 | January 31, 2020 | February 1, 2020-May 31, 2020.
3 | July 31, 2020 | August 1, 2020-November 30, 2020.
4 | January 31, 2021 | February 1, 2021-May 31, 2021.
5 | July 31, 2021 | August 1, 2021-November 30, 2021.
6 | January 31, 2022 | February 1, 2022-May 31, 2022.

ADDRESSES: Submit applications to Fred Jones, Office of Ports & Waterways Planning, W21-311, U.S. Department of Transportation, Maritime Administration, 1200 New Jersey Avenue SE, Washington, DC 20590 or via email to mh@dot.gov. Telephone (202) 366-1123; Fax (202) 366-5904.

FOR FURTHER INFORMATION CONTACT: Timothy Pickering, Office of Ports & Waterways Planning, W21-312, U.S. Department of Transportation, Maritime Administration, 1200 New Jersey Avenue SE, Washington, DC 20590. Telephone (202) 366-0704; Fax (202) 366-5904 or email Mr. Pickering at mh@dot.gov. You may also visit MARAD's Marine Highway web page at http://www.marad.dot.gov search “America's Marine Highway Program.” MARAD's Gateway Offices can also respond to questions about the Marine Highway Program, Route Designations, and Project Designation Open Season. Offices contact information is available on the MARAD website at http://www.marad.dot.gov search “Office of Gateways.”

SUPPLEMENTARY INFORMATION: As originally announced in the Federal Register on June 2, 2014 (79 FR 31404), the scope of the Marine Highway Program has been expanded to encompass all of the United States' domestic marine transportation system. Previously, the Program only included waterways that paralleled landside transportation routes, and thus, excluded routes between the mainland and non-contiguous ports and between islands, such as those in Hawaii and Puerto Rico. The expanded scope comes from Section 405 of The Coast Guard and Marine Transportation Act of 2012 (Pub. L. 112-213), which reads: “[t]he Secretary shall designate short sea transportation routes as extensions of the surface transportation system to focus public and private efforts to use the waterways to relieve landside congestion along coastal corridors or to promote short sea transportation.” The scope was further expanded in Section 3508 of the National Defense Authorization Act for Fiscal Year 2016 (Pub. L. 114-92), which adds to the definition of freight by adding cargo “shipped in discrete units or packages that are handled individually, palletized, or unitized for purposes of transportation” and “freight vehicles carried aboard commuter ferry boats.” In addition, the revised final rule that outlines the scope of the Marine Highway Program (46 CFR part 393) was published in the Federal Register (82 FR 56902) on December 1st, 2017, and became effective on January 2, 2018.

The purpose of the open season call for project designation is to seek eligible Marine Highway Projects that may establish new or enhance existing Marine Highway Services. Eligible projects may be designated as Marine Highway Projects by the Secretary of Transportation. Being designated a Marine Highway Project allows the Department of Transportation resources to be used to assist public project sponsors, ports, and other local transportation or economic development agencies in the development of their Marine Highway Projects.

The Department's objective through this program is to reduce landside congestion and increase the use of domestic marine transportation by supporting the development of transportation options for shippers. These services provide economic and environmental benefits to the U.S. public at large. Marine Highway Program Designated Projects can improve safety and system resilience, and serve to reduce transportation-related air emissions, transportation costs for shippers, energy consumption, and costs associated with landside transportation infrastructure.

The Department of Transportation will accept and process Project Designation applications that propose to operate or expand service on Designated Marine Highway Routes.

Participation

The Marine Highway Project Designation application process is detailed in 46 CFR Section 393.4 Marine Highway Projects, which is accessible online at https://www.federalregister.gov search “Revision of the America's Marine Highway Program Regulations.”

Although Marine Highway Project Designations often involve private entities such as vessel operators, the applications must be sponsored and submitted to the Department of Transportation by a public entity, such as a State Department of Transportation, Metropolitan Planning Organization (MPO), or Port Authority. Public/private partnerships are encouraged.

To be eligible for Marine Highway Project Designation status, the proposed project must (1) use U.S. documented vessels, (2) transport containerized freight, trailer-based freight, palletized or unitized freight, or freight carried on passenger vessels, and (3) operate on a designated Marine Highway Route. (Refer to 46 CFR 393.4(c) for a comprehensive description of project eligibility). For further information on recommending that a navigable waterway be designated as a Marine Highway Route, please contact your regional Gateway Office.

(Authority: 49 CFR Sections 1.92 and 1.93)

* * * * *

Date: February 25, 2019.
By Order of the Maritime Administrator.
T. Mitchell Hudson, Jr.,
Secretary, Maritime Administration.

[FR Doc. 2019-03598 Filed 2-28-19; 8:45 am]

BILLING CODE 4910-81-P